DEPARTMENT OF ENERGY

Federal Energy Regulatory Commission

Docket No. CP11-20-000

Transcontinental Gas Pipe Line Company, LLC; Notice of Request Under Blanket Authorization

November 15, 2010.

Take notice that on November 2, 2010, Transcontinental Gas Pipe Line Company, LLC (Transco), Post Office Box 1396, Houston, Texas 77251, filed a prior notice request pursuant to sections 157.205 and 157.216 of the Federal Energy Regulatory Commission's regulations under the Natural Gas Act (NGA) and Transco's blanket certificate issued in Docket Nos. CP82-426-000, for authorization to abandon certain offshore facilities. Specifically, Transco seeks to abandon, in place, 23.5 miles of 12-inch diameter pipeline located in offshore Texas extending from Matagorda Island Block 639 to Brazos Block A-133 and related metering and regulating facilities referred to as the Supply Lateral. Transco states the Supply Lateral will be abandoned in place by cutting and capping, pigging and filling with sea water. Transco also states the abandonment will not have any adverse impact on Transco's existing customers and no customers have received service through Supply Lateral for several years, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding this application should be directed to Nan Miksovsky, Post Office Box 1396, Houston, TX 77251, and telephone no. (713) 215-3422.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. 2010-29312 Filed 11-19-10; 8:45 am]

BILLING CODE 6717-01-P